DEPARTMENT OF COMMERCE

Submission for OMB Review; Comment Request

The Department of Commerce has submitted to the Office of Management and Budget (OMB) for clearance the following proposal for collection of information under the emergency provisions of the Paperwork Reduction Act (44 U.S.C. Chapter 35).

Agency: National Telecommunications and Information Administration (NTIA).

Title: Computer and Internet Use Supplement to the Census Bureau's Current Population Survey.

OMB Control Number: 0660-0021.

Form Number(s): None.

Type of Request: Emergency submission (revision of a currently approved information collection).

Number of Respondents: 40,500.

Average Hours per Response: 10 minutes.

Burden Hours: 6,750.

Needs and Uses: President Obama has established a national goal of universal, affordable broadband access for all Americans. To that end, the Administration is working with Congress, the Federal Communications Commission (FCC), and other stakeholders to develop and advance economic and regulatory policies that foster broadband deployment and adoption. Current, systematic, and comprehensive data on broadband adoption and non-use by U.S. households is critical to allow policymakers not only to gauge progress made to date, but also to identify problem areas with a specificity that permits carefully targeted and cost effective responses.

NTIA proposes to add 53 questions in the Computer and Internet Use Supplement to the U.S. Census Bureau's July 2013 Current Population Survey (CPS) to gather reliable data on broadband (also known as high-speed Internet) use by U.S. households. These questions clarify certain previously used questions, and update others to reflect rapidly changing broadband device technology and the many consumer and business activities that broadband enables. The emergency review by OMB will expedite the inclusion of the questions to the CPS.

Affected Public: Individuals or households.

Frequency: Once.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent by June 14, 2013 to Nicholas Fraser, OMB Desk Officer, via the Internet at Nicholas_A._Fraser@omb.eop.gov or FAX number (202) 395-5167.

Dated: May 14, 2013.
Gwellnar Banks,
Management Analyst, Office of the Chief Information Officer.

[FR Doc. 2013-11795 Filed 5-16-13; 8:45 am]

BILLING CODE 3510-06-P